FEDERAL COMMUNICATIONS COMMISSION

Notice of Public Information Collection(s) Being Reviewed by the Federal Communications Commission

May 24, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 3, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-XXXX.

Title: Amendment of Part 95 of the Commission's Rules to Provide Regulatory Flexibility in the 218-219 MHz Service, WT Docket 98-168.

Form No.: N/A.

Type of Review: New collection.

Respondents: Business or other for-profit.

Number of Respondents: 140.

Estimated Time Per Response: .50 to 4 hours.

Frequency of Response: On occasion and one-time reporting requirement.

Total Annual Burden: 980 hours.

Total Annual Cost: N/A.

Needs and Uses: This new information collection requirement allows the Commission to offer 218-219 MHz service licensees various options for their existing installment payment options. This will allow licensees to meet their financial obligations and ensure rapid provision for the 218-219 MHz service to the public.

The information reporting requirements in WT Docket No. 98-168, Report and Order, will be used to advise the Commission for the option chosen by the Eligible Licensees. Additionally, the Commission will know the amount due under the various options selected by the Eligible Licensees. This will permit the Commission to determine if a licensee subsequently defaults. In addition, this information will allow the Commission to offer the licenses returned under the Amnesty and Prepayment options in a subsequent auction.

Federal Communications Commission.
Magalie Roman Salas,
Secretary.

[FR Doc. 00-13592 Filed 5-31-00; 8:45 am]

BILLING CODE 6712-01-P